DEPARTMENT OF ENERGY

Federal Energy Regulatory Commission

Combined Notice of Filings #1

Take notice that the Commission received the following electric corporate filings:

Docket Numbers: EC26-56-000.

Applicants: Atlas Solar V, LLC, Atlas Solar VI, LLC.

Description: Joint Application for Authorization Under Section 203 of the Federal Power Act of Atlas Solar V, LLC et al.

Filed Date: 1/30/26.

Accession Number: 20260130-5555.

Comment Date: 5 p.m. ET 2/20/26.

Take notice that the Commission received the following electric rate filings:

Docket Numbers: ER12-895-038.

Applicants: Minco Wind Interconnection Services, LLC.

Description: Notice of Change in Status of Minco Wind Interconnection Services, LLC.

Filed Date: 1/29/26.

Accession Number: 20260129-5563.

Comment Date: 5 p.m. ET 2/19/26.

Docket Numbers: ER22-167-001.

Applicants: Ontario Power Generation Energy Trading, Inc.

Description: Compliance filing: Notice of Change in Status to be effective 2/5/2026.

Filed Date: 2/4/26.

Accession Number: 20260204-5092.

Comment Date: 5 p.m. ET 2/25/26.

Docket Numbers: ER25-3331-002.

Applicants: Southwest Power Pool, Inc.

Description: Compliance filing: Compliance Filing—Clarify Inappropriate Bidding Strategies Regarding EESLs to be effective 8/31/2025.

Filed Date: 2/4/26.

Accession Number: 20260204-5026.

Comment Date: 5 p.m. ET 2/25/26.

Docket Numbers: ER26-160-000.

Applicants: Southwest Power Pool, Inc.

Description: Refund Report: 1628R30 Western Farmers Electric Coop. Refund Report to be effective N/A.

Filed Date: 2/4/26.

Accession Number: 20260204-5035.

Comment Date: 5 p.m. ET 2/25/26.

Docket Numbers: ER26-629-000.

Applicants: Cartwright Solar II LLC.

Description: Supplement to 12/01/2025, Cartwright Solar II LLC tariff filing.

Filed Date: 1/30/26.

Accession Number: 20260130-5554.

Comment Date: 5 p.m. ET 2/9/26.

Docket Numbers: ER26-653-001.

Applicants: Avista Corporation.

Description: Compliance filing: Avista Corp Amended Order 904 Compliance Filing to be effective 3/20/2025.

Filed Date: 2/4/26.

Accession Number: 20260204-5104.

Comment Date: 5 p.m. ET 2/25/26.

Docket Numbers: ER26-1255-000.

Applicants: PJM Interconnection, L.L.C.

Description: § 205(d) Rate Filing: Original GIA, Service Agreement No. 7810; AE2-185/AF2-404 to be effective 1/5/2026.

Filed Date: 2/4/26.

Accession Number: 20260204-5024.

Comment Date: 5 p.m. ET 2/25/26.

Docket Numbers: ER26-1256-000.

Applicants: PJM Interconnection, L.L.C.

Description: § 205(d) Rate Filing: Original GIA, Service Agreement No. 7809; AE2-283 to be effective 1/5/2026.

Filed Date: 2/4/26.

Accession Number: 20260204-5025.

Comment Date: 5 p.m. ET 2/25/26.

Docket Numbers: ER26-1257-000.

Applicants: Southwest Power Pool, Inc.

Description: § 205(d) Rate Filing: Attachment AE Revisions to Update Congestion Management Process to be effective 4/6/2026.

Filed Date: 2/4/26.

Accession Number: 20260204-5033.

Comment Date: 5 p.m. ET 2/25/26.

Docket Numbers: ER26-1258-000.

Applicants: New York Independent System Operator, Inc.

Description: New York Independent System Operator Inc. submits temporary limited prospective waiver of Section 26.4.2.2.1 and its Market Admin and Control Area Services Tariff to address Import Credit Requirement calculations for Day-Ahead Bids.

Filed Date: 1/30/26.

Accession Number: 20260130-5550.

Comment Date: 5 p.m. ET 2/20/26.

Docket Numbers: ER26-1259-000.

Applicants: Arizona Public Service Company.

Description: § 205(d) Rate Filing: Rate Schedule No. 325—Joint Participation Agreement to be effective 4/6/2026.

Filed Date: 2/4/26.

Accession Number: 20260204-5057.

Comment Date: 5 p.m. ET 2/25/26.

Docket Numbers: ER26-1260-000.

Applicants: Selkirk Cogen Partners LLC.

Description: § 205(d) Rate Filing: NOS for Name Change to be effective 4/5/2026.

Filed Date: 2/4/26.

Accession Number: 20260204-5067.

Comment Date: 5 p.m. ET 2/25/26.

Docket Numbers: ER26-1261-000.

Applicants: Prairie Wind Transmission LLC, Southwest Power Pool, Inc.

Description: § 205(d) Rate Filing: Prairie Wind Transmission LLC submits tariff filing per 35.13(a)(2)(iii: Prairie Wind Transmission, LLC Formula Rate Revisions to Comply with Order 898 to be effective 4/6/2026.

Filed Date: 2/4/26.

Accession Number: 20260204-5080.

Comment Date: 5 p.m. ET 2/25/26.

Docket Numbers: ER26-1262-000.

Applicants: Evergy Kansas Central, Inc.

Description: § 205(d) Rate Filing: EKC FERC Order 898 Filing to be effective 4/5/2026.

Filed Date: 2/4/26.

Accession Number: 20260204-5084.

Comment Date: 5 p.m. ET 2/25/26.

Docket Numbers: ER26-1263-000.

Applicants: Evergy Kansas Central, Inc. Evergy Metro, Inc. Evergy Missouri West, Inc. Evergy Kansas South, Inc., Southwest Power Pool, Inc.

Description: § 205(d) Rate Filing: Southwest Power Pool, Inc. submits tariff filing per 35.13(a)(2)(iii: Evergy Companies Formula Rates Revisions to Comply with Order 898 to be effective 4/6/2026.

Filed Date: 2/4/26.

Accession Number: 20260204-5095.

Comment Date: 5 p.m. ET 2/25/26.

Docket Numbers: ER26-1264-000.

Applicants: Midcontinent Independent System Operator, Inc.

Description: § 205(d) Rate Filing: 2026-02-04_Module E-1 Revisions on HUC and FRT to be effective 4/6/2026.

Filed Date: 2/4/26.

Accession Number: 20260204-5111.

Comment Date: 5 p.m. ET 2/25/26.

Docket Numbers: ER26-1265-000.

Applicants: New York Independent System Operator, Inc.

Description: Compliance filing: NYISO Compliance: Conform FERC eTariff Records re: DADRP-DSASP Sunset to be effective 4/16/2024.

Filed Date: 2/4/26.

Accession Number: 20260204-5113.

Comment Date: 5 p.m. ET 2/25/26.

Docket Numbers: ER26-1266-000.

Applicants: Public Service Company of Colorado.

Description: § 205(d) Rate Filing: 2026-02-04 Revision to PLGIA to be effective 4/5/2026.

Filed Date: 2/4/26.

Accession Number: 20260204-5136.

Comment Date: 5 p.m. ET 2/25/26.

Docket Numbers: ER26-1267-000.

Applicants: Montana-Dakota Utilities Co.

Description: § 205(d) Rate Filing: Certificate of Concurrrence—Badger Wind, LLC to be effective 1/16/2026.

Filed Date: 2/4/26.

Accession Number: 20260204-5142.

Comment Date: 5 p.m. ET 2/25/26.

Take notice that the Commission received the following electric securities filings:

Docket Numbers: ES26-29-000.

Applicants: Upper Peninsula Power Company.

Description: Application Under Section 204 of the Federal Power Act for Authorization to Issue Securities of Upper Peninsula Power Company.

Filed Date: 1/30/26.

Accession Number: 20260130-5557.

Comment Date: 5 p.m. ET 2/20/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 4, 2026.
Carlos D. Clay,
Deputy Secretary.

[FR Doc. 2026-02552 Filed 2-9-26; 8:45 am]

BILLING CODE 6717-01-P